TENNESSEE VALLEY AUTHORITY

[Meeting No. 18-03]

Sunshine Act Meetings

TIME AND DATE: 9:30 a.m. (ET) on August 22, 2018.

PLACE: TVA West Tower Auditorium, 400 West Summit Hill Drive, Knoxville, Tennessee.

STATUS: Open.

MATTERS TO BE CONSIDERED: The TVA Board of Directors will hold a public meeting. The public may comment on any agenda item or subject at the public listening session. Following the end of the public listening session, the meeting will be called to order to consider the agenda items listed below. On-site registration will be available until 15 minutes before the public listening session begins at 9:30 a.m. (ET). Preregistered speakers will address the Board first. TVA management will answer questions from the news media following the Board meeting.

Agenda

1. Approval of minutes of the May 10, 2018, Board Meeting

2. Report from President and CEO

3. Report of the Finance, Rates, and Portfolio Committee

A. FY 2019 Financial Plan and Budget

B. Rate adjustment

C. Financing authority

D. Nuclear fuel supply contracts

E. Integrated Supply Program

4. Report of the Audit, Risk, and Regulation Committee

A. FY 2019 external auditor selection

5. Report of the External Relations Committee

A. Public Land Protection Policy

6. Report of the Nuclear Oversight Committee

7. Report of the People and Performance Committee

A. Corporate goals

B. Long-term incentive plan revisions

C. Health savings account contract

CONTACT PERSON FOR MORE INFORMATION: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 15, 2018.
Sherry A. Quirk,
General Counsel.

[FR Doc. 2018-17969 Filed 8-16-18; 11:15 am]

BILLING CODE 8120-08-P